ENVIRONMENTAL PROTECTION AGENCY

[FRL-12223-01-OA]

Local Government Advisory Committee: Notice of Public Meeting

AGENCY: Environmental Protection Agency (EPA).

ACTION: Notice of a public meeting.

SUMMARY: Pursuant to the Federal Advisory Committee Act (FACA), the U.S. Environmental Protection Agency (EPA) hereby provides notice of a meeting for the Local Government Advisory Committee (LGAC) on the date and time described below. This meeting will be open to the public. For information on public attendance and participation, please see the registration information under SUPPLEMENTARY INFORMATION.

DATES: The LGAC will meet in-person and virtually from approximately 9 a.m.-3 p.m. central time on Thursday, September 26, 2024. The LGAC will also meet from approximately 8-11 a.m. Friday September 27, 2024.

FOR FURTHER INFORMATION CONTACT: Frank Sylvester, LGAC Designated Federal Officer (DFO) at Sylvester.Frank.J@epa.gov or 202-603-8133.

Information on Accessibility: For information on access or services for individuals requiring accessibility accommodations, please contact Frank Sylvester, LGAC Designated Federal Officer, at Sylvester.Frank.J@epa.gov or 202-603-8133. To request accommodation, please do so ten (10) business days prior to meeting dates, to give the EPA as much time as possible to process your request.

SUPPLEMENTARY INFORMATION:

Content

The LGAC will discuss several priority issues at EPA, including climate communication, environmental justice, the EPA's efforts to address cumulative impacts, and water system restructuring. Agenda and meeting materials will be posted online (link below) one week prior to the meeting. For more information on the LGAC, including member biographies, recent meeting summaries and recommendations, visit: https://www.epa.gov/ocir/local-government-advisory-committee-lgac.

Registration

The meeting will be held virtually as well as in person. Members of the public who wish to participate should register by contacting the Designated Federal Officer (DFO) at Sylvester.Frank.J@epa.gov or LGAC@epa.gov by September 12, 2024. Online participation will be via Zoom. In-person participation will be at the Embassy Suites in Lincoln, Nebraska: 1040 P Street, Lincoln, NE 68508.

Once available, the agenda and other supportive meeting materials will be available online at https://www.epa.gov/ocir/local-government-advisory-committee-lgac and will be emailed to all registrants. In the event of cancellation for unforeseen circumstances, please contact the DFO or check the website above for rescheduling information.

Dated: August 23, 2024.
Frank Sylvester,
EPA Designated Federal Officer Local Government Advisory Committee.

[FR Doc. 2024-19506 Filed 8-29-24; 8:45 am]

BILLING CODE 6560-50-P